DEPARTMENT OF HEALTH AND HUMAN SERVICES

National Institutes of Health

Proposed Collection; 60-Day Comment Request; Next Series of Tobacco Use Supplements to the Current Population Survey

SUMMARY: In compliance with the requirement of Section 3506(c)(2)(A) of the Paperwork Reduction Act of 1995, for opportunity for public comment on proposed data collection projects, the National Cancer Institute (NCI), National Institutes of Health (NIH), will publish periodic summaries of proposed projects to be submitted to the Office of Management and Budget (OMB) for review and approval.

Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

To Submit Comments and for Further Information: To obtain a copy of the data collection plans and instruments, submit comments in writing, or request more information on the proposed project, contact: Anne Hartman, Health Statistician, Risk Factor Monitoring and Methods Branch, National Cancer Institute, NIH, MSC 9762, 9609 Medical Center Drive, Bethesda, MD or call non-toll-free number 240-276-6704 or Email your request, including your address to: hartmana@mail.nih.gov. Formal requests for additional plans and instruments must be requested in writing.

DATES: Comment Due Date: Comments regarding this information collection are best assured of having their full effect if received within 60 days of the date of this publication.

Proposed Collection: Next Series of Tobacco Use Supplements to the Current Population Survey (TUS-CPS), 0925-0368, Expiration Date 03/31/2013, Reinstatement with Change, National Cancer Institute (NCI), National Institutes of Health (NIH).

Need and Use of Information Collection: The 2014-15 Tobacco Use Supplement-Current Population Survey (TUS-CPS) will be conducted by the Census Bureau and is co-sponsored by the National Cancer Institute (NCI) and the Food and Drug Administration (FDA). Fielded since 1992, most recently in 2010-11, this survey is part of a continuing series of surveys (OMB No. 0925-0368) sponsored by NCI that has been administered triennially as part of the Census Bureau's and the Bureau of Labor Statistics' CPS. For the TUS-CPS, data will be collected from the U.S. civilian non-institutionalized population on smoking, other tobacco use, including switching, flavors, dependence, cessation attempts, and policy and social norms. The TUS-CPS has been a key source of national, state, some local-level, and health disparity data on these topics in U.S. households because it uses a large, nationally representative sample. The 2014-15 TUS-CPS is designed to meet both NCI's and FDA's goals. The NCI and FDA are co-sponsoring the 2014-15 TUS-CPS through parallel, but separate interagency agreements with the Census Bureau. The NCI is particularly focused on policy information such as home and workplace smoking policies, cigarette price, and impact of these on subsequent purchase and use behavior; and changes in smoking norms and attitudes. The FDA aims to support research to aid the development and evaluation of tobacco product regulations. The research findings generated from this program are expected to provide data to inform FDA regulation of the manufacture, distribution, and marketing of tobacco products to protect public health. A unique feature is the ability to link other social and economic Census Bureau and Bureau of Labor Statistics data, other sponsor-supported supplement data, and the National Longitudinal Mortality Study cancer incidence and cause-specific mortality data to the TUS-CPS data. Data will be collected in July 2014, January 2015, and May 2015 from about 255,000 respondents.

OMB approval is requested for 2 years. There are no costs to respondents other than their time. The total estimated annualized burden hours are 12,750.

Estimated Annualized Burden Hours
Type of respondent | Number of respondents | Responses per respondent | Average burden per response (in hour) | Annual burden hours
Individuals | 127,500 | 1 | 6/60 | 12,750

Dated: January 15, 2014.
Vivian Horovitch-Kelley,
NCI Project Clearance Liaison, National Institutes of Health.

[FR Doc. 2014-01230 Filed 1-21-14; 8:45 am]

BILLING CODE 4140-01-P